GOVERNMENT ACCOUNTABILITY OFFICE

Financial Management and Assurance; Government Auditing Standards

AGENCY: Government Accountability Office.

ACTION: Notice of document availability.

SUMMARY: On August 23, 2010, the U.S. Government Accountability Office (GAO) issued an exposure draft of proposed revisions to Government Auditing Standards (GAGAS) (also known as the Yellow Book). To help ensure that the standards continue to meet the needs of the audit community and the public it serves, the Acting Comptroller General of the United States appointed the Advisory Council on Government Auditing Standards to review the standards and recommend necessary changes. The Advisory Council includes experts in financial and performance auditing drawn from all levels of government, private enterprise, public accounting, and academia. This exposure draft of the standards includes the Advisory Council's suggestions for proposed changes. We are currently requesting public comments on the proposed revisions in the exposure draft.

The proposed 2010 revision to GAGAS will be the sixth revision since the standards were first issued in 1972. The 2010 Yellow Book exposure draft seeks to emphasize the critical role of high quality government audits in achieving credibility and accountability in government. The proposed changes contained in the 2010 Exposure Draft update GAGAS to reflect major developments in the accountability and audit profession and emphasize specific considerations applicable to the government environment. In addition, this proposed revision modernizes GAGAS, with updates to reflect major developments in the accountability and audit environment, including a conceptual framework approach for independence. Clarifications have also been made throughout the standards.

DATES: Comments will be accepted through November 22, 2010.

ADDRESSES: A copy of the exposure draft (GAO-1O-853G) can be obtained on the GAO Internet page http://www.gao.gov/govaud/vbkOl.htm.

FOR FURTHER INFORMATION CONTACT: Michael Hrapsky, Specialist, Auditing Standards at (202) 512-9535.

SUPPLEMENTARY INFORMATION: To ensure that your comments are considered by GAO and the Advisory Council in their deliberations, please submit them by November 22, 2010. Please send your comments electronically to yeJlowbookgao.gov.

Public Law 67-13, 42 Stat. 20.

James R. Dalkin,
Director, Financial Management and Assurance.

[FR Doc. 2010-23374 Filed 9-17-10; 8:45 am]

BILLING CODE 1610-02-M